DEPARTMENT OF COMMERCE

Foreign-Trade Zones Board

[B-49-2013]

Foreign-Trade Zone 203—Moses Lake, Washington; Application for Reorganization (Expansion of Service Area) Under Alternative Site Framework

An application has been submitted to the Foreign-Trade Zones (FTZ) Board by the Port of Moses Lake Public Corporation, grantee of Foreign-Trade Zone 203, requesting authority to reorganize the zone to expand its service area under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the FTZ Board (15 CFR part 400). It was formally docketed on July 3, 2014.

FTZ 203 was approved by the FTZ Board on October 18, 1994 (Board Order 702, 59 FR 54433, 10/31/1994) and reorganized under the ASF on 05/20/2011 (Board Order 1764 76 FR 31853, 06/01/2011). The zone project currently has a service area that includes Benton, Chelan, Columbia, Douglas, Franklin, Grant, Kittitas, Lincoln and Walla Walla Counties, as well as portions of Okanogan and Yakima Counties, Washington.

The applicant is now requesting authority to expand the service area of the zone to include Adams County, Washington, as described in the application. If approved, the grantee would be able to serve sites throughout the expanded service area based on companies' needs for FTZ designation. The proposed expanded service area is adjacent to the Moses Lake, Washington U.S. Customs and Border Protection Ports of Entry.

In accordance with the FTZ Board's regulations, Christopher Kemp of the FTZ Staff is designated examiner to evaluate and analyze the facts and information presented in the application and case record and to report findings and recommendations to the FTZ Board.

Public comment is invited from interested parties. Submissions shall be addressed to the FTZ Board's Executive Secretary at the address below. The closing period for their receipt is September 8, 2014. Rebuttal comments in response to material submitted during the foregoing period may be submitted during the subsequent 15-day period to September 23, 2014.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Christopher Kemp at Christopher.Kemp@trade.gov or (202) 482-0862.

Dated: July 3, 2014.
Elizabeth Whiteman,
Acting Executive Secretary.

[FR Doc. 2014-16169 Filed 7-9-14; 8:45 am]

BILLING CODE 3510-DS-P